DEPARTMENT OF LABOR

Office of the Secretary; Submission for OMB Review; Comment Request

March 15, 2002.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation contract Marlene Howze at (202) 693-4158 or e-mail Howze-Marlene@dol.gov.

Comments should be sent to Office of Information and Regulatory Affairs, Attn: OMB Desk Officer for BLS, Office of Management and Budget, Room 10235, Washington, DC 20503 (202) 395-7316), within 30 days from the date of this publication in the Federal Register.

The OMB is particularly interested in comments which:

* Evaluate whether the proposed collection of information is necessary for the proper performance of the functions of the agency, including whether the information will have practical utility;

* Evaluate the accuracy of the agency's estimate of the burden of the proposed collection of information, including the validity of the methodology and assumption used;

* Enhance the quality, utility, and clarity of the information to be collected; and minimize the burden of the collection of information on those who are to respond, including through the use of appropriate automated, electronic, mechanical, or other technological collection techniques or other forms of information technology, e.g., permitting electronic submission of responses.

Type of Review: Extension of a currently approved collection.

Agency: Bureau of Labor Statistics (BLS).

Title: Producer Price Index Survey.

OMB Number: 1220-0008.

Affected Public: Business or other for-profit.

Estimated Time Per Response and Total Burden Hours:

Form | Number of respondents | Frequency | Total responses | Average time per response (minutes) | Estimated total burden (hours)
BLS 1810A, A1, B, C, C1, and E | 1,585 | Once | 6,340 | 120 | 12,680
BLS 473P | 26,250 | Monthly | 1,260,000 | 18 | 378,000
Totals | 27,835 |  | 1,266,340 |  | 390,680

Total Annualized Capital/Startup Costs: $0.

Total Annual Costs (operating/maintaining systems or purchasing service): $0.

Description: The Producer Price Index, one of the Nation's leading economic indicators, is used as a measure of price movements, as an indicator of inflationary trends, for inventory valuation, and as a measure of purchasing power of the dollar at the primary market level. It is also used for market and economic research and as a basis for escalation in long-term contracts and purchase agreements. The failure to calculate data would tend to extend the time frame required for accurate recognition of and appropriate adaptation to economic events.

Ira L. Mills,
DOL Clearance Officer.

[FR Doc. 02-7142 Filed 3-22-02; 8:45 am]

BILLING CODE 4510-24-M